Title 3—

The President

Proclamation 9747 of May 11, 2018

National Defense Transportation Day and National Transportation Week, 2018

By the President of the United States of America

A Proclamation

During National Defense Transportation Day and National Transportation Week, we celebrate the many forms of transportation and recognize the countless men and women who ensure that our transportation infrastructure systems operate effectively, efficiently, and, when needed, in support of our national defense. Since the early days of our Nation, the growth and expansion of the United States, as well as the strength of our country's national defense, have been inextricably linked to our investments into our transportation system.

In 1919, a young lieutenant colonel named Dwight D. Eisenhower embarked on the United States Army's first transcontinental convoy from Washington, DC, to San Francisco, California. Over a trip that lasted 62 days, covered 3,251 miles at a speed of 6 miles per hour, and overcame 230 accidents, Eisenhower witnessed firsthand the need for an efficient, reliable, and safe national transportation system. Nearly 40 years later, as President of the United States, he signed into law the Federal-Aid Highway Act of 1956, which created our Nation's landmark system of interstate highways.

In recent years, our country's infrastructure has fallen behind due to political inaction, poor resource allocation, and a broken permitting process. We must take bold action and renew our commitment to our transportation system through reforms, effective investments, and transformative technologies. I have proposed an infrastructure plan that will generate a $1.5 trillion infusion into our country's once-great infrastructure and help to build a more prosperous future for all Americans. These funds will help rebuild our roads and bridges and create incentives for new State and local investments in infrastructure, raising wages and improving the quality of life for American families for years to come. Additionally, my Administration is focused on eliminating the unnecessary redundancies and inefficiencies in the regulatory and permitting procedures that hold back American infrastructure development. Finally, we must take particular care to focus resources on rural America, whose infrastructure must be supported and modernized to promote economic growth and well-being.

Taken together, these policies will help ensure the efficient and free flow of commerce across our beautiful Nation and unleash a new era of prosperity. Every American depends on our roads, rails, airports, and waterways. But a highly functioning infrastructure network is especially critical to our men and women in uniform, who rely on it to facilitate the flow of the equipment and supplies they need to stay safe and protect America. By taking the appropriate and necessary actions, we will restore our infrastructure to greatness so that it serves all Americans, including those in our Nation's military.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), has declared that the week during which that Friday falls be designated as “National Transportation Week.”

NOW, THEREFORE, I, DONALD J. TRUMP, President of the United States of America, do hereby proclaim Friday, May 18, 2018, as National Defense Transportation Day and May 13 through May 19, 2018, as National Transportation Week. I encourage all Americans to celebrate these observances with appropriate ceremonies and activities to learn more about how our transportation system contributes to the security of our citizens and the prosperity of our Nation.

IN WITNESS WHEREOF, I have hereunto set my hand this eleventh day of May, in the year of our Lord two thousand eighteen, and of the Independence of the United States of America the two hundred and forty-second.

[FR Doc. 2018-10719

Filed 5-16-18; 11:15 am]

Billing code 3295-F8-P